NATIONAL ARCHIVES AND RECORDS ADMINISTRATION

[NARA-2015-033]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 4, 2015. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: 301-837-3698.

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Defense, Office of the Secretary of Defense (DAA-0330-2015-0002, 2 items, 2 temporary items). Records relating to planning and managing events including budget, contract, and advertisement files.

2. Department of Defense, Office of the Secretary of Defense (DAA-0330-2015-0003, 1 item, 1 temporary item). Master files of an electronic information system that contains records relating to wounded soldiers recovery programs including personal identifiers, limited injury and medical information, and duty status.

3. Department of Defense, Office of the Secretary of Defense (DAA-0330-2015-0004, 4 items, 4 temporary items). Records relating to injury and unemployment compensation programs including agreements, invoices, and general claim files.

4. Department of Defense, National Reconnaissance Office (N1-525-12-1, 5 items, 5 temporary items). Administrative records including records relating to human resources, building maintenance, and records management.

5. Department of Health and Human Services, Indian Health Service (DAA-0513-2015-0001, 1 item, 1 temporary item). Internal requests for legal opinions, copies of responses, and background materials.

6. Department of Homeland Security, Transportation Security Administration (DAA-0560-2013-0007, 5 items, 5 temporary items). Applications, case files, and other records related to a program that allows airports to use private security companies for passenger screening.

7. Department of Homeland Security, Transportation Security Administration (DAA-0560-2013-0010, 5 items, 5 temporary items). Records related to a training and assessment program for screeners of checked baggage and passenger checkpoints.

8. Department of Homeland Security, Transportation Security Administration (DAA-0560-2014-0001, 3 items, 3 temporary items). Review and assessment reports of the Explosives Operations Division.

9. Department of Justice, Bureau of Alcohol, Tobacco, Firearms, and Explosives (DAA-0436-2012-0008, 3 items, 1 temporary item). Non-executive meeting minutes. Proposed for permanent retention are executive meeting minutes and formal policies and operating procedures.

10. Department of Justice, Drug Enforcement Administration (DAA-0170-2015-0002, 1 item, 1 temporary item). Records received in the course of an investigation upon which no further action is taken.

11. Department of the Navy, U.S. Marine Corps (DAA-0127-2013-0028, 1 item, 1 temporary item). Master files of an electronic information system used to collect and manage intelligence images.

12. Department of Veterans Affairs, Veterans Health Administration (DAA-0015-2015-0004, 36 items, 34 temporary items). Records of a research program including project applications and approvals, research data, facility oversight records, and patent records. Proposed for permanent retention are congressional relations files and briefing records.

13. Environmental Protection Agency, Agency-wide (DAA-0412-2015-0002, 1 item, 1 temporary item). Master files of an electronic information system used to track cases related to internal labor and employee relations.

14. National Archives and Records Administration, Government-wide (DAA-GRS-2014-0001, 3 items, 2 temporary items). General Records Schedule for email records. Proposed for permanent retention are email records of senior-level agency officials. A copy of the full review packet may be found on the National Archives Records Express blog (http://blogs.archives.gov/records-express/). A public meeting to solicit comments will be announced at a later date in the Federal Register.

15. Peace Corps, Director's Office (DAA-0490-2015-0001, 3 items, 3 temporary items). Records of the Office of Compliance including records used to capture and track corrective actions and recommendations. Also included are trend analysis data and working files.

Dated: March 27, 2015.
Paul M. Wester, Jr.,
Chief Records Officer for the U.S. Government.

[FR Doc. 2015-07512 Filed 4-1-15; 8:45 am]

BILLING CODE CODE 7515-01-P